INTERNATIONAL TRADE COMMISSION

[Inv. No. 337-TA-803]

In the Matter of Certain Dynamic Random Access Memory and Nand Flash Memory Devices and Products Containing Same; Notice of Institution of Investigation; Institution of Investigation Pursuant to 19 U.S.C. 1337

AGENCY: U.S. International Trade Commission.

ACTION: Notice.

SUMMARY: Notice is hereby given that a complaint was filed with the U.S. International Trade Commission on July 12, 2011, under section 337 of the Tariff Act of 1930, as amended, 19 U.S.C. 1337, on behalf of Intellectual Ventures Management, LLC of Bellevue, Washington; Invention Investment Fund I, L.P. of Bellevue, Washington; Invention Investment Fund II, LLC of Bellevue, Washington; Intellectual Ventures I LLC of Bellevue, Washington; and Intellectual Ventures II LLC of Bellevue, Washington. A letter supplementing the complaint was filed on August 1, 2011. An amended complaint was filed on August 12, 2011. A letter supplementing the amended complaint was filed on August 25, 2011. The amended complaint alleges violations of section 337 based upon the importation into the United States, the sale for importation, and the sale within the United States after importation of certain dynamic random access memory and NAND flash memory devices and products containing same by reason of infringement of certain claims of U.S. Patent No. 5,654,932 (“the `932 patent”); U.S. Patent No. 5,963,481 (“the `481 patent”); U.S. Patent No. 5,982,696 (“the `696 patent”); U.S. Patent No. 5,500,819 (“the `819 patent”); and U.S. Patent No. 5,687,132 (“the `132 patent”). The amended complaint further alleges that an industry in the United States exists as required by subsection (a)(2) of section 337.

The complainants request that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street, SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its Internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2011).

Scope of Investigation: Having considered the amended complaint, the U.S. International Trade Commission, on August 30, 2011, ordered that—

(1) Pursuant to subsection (b) of section 337 of the Tariff Act of 1930, as amended, an investigation be instituted to determine whether there is a violation of subsection (a)(1)(B) of section 337 in the importation into the United States, the sale for importation, or the sale within the United States after importation of certain dynamic random access memory and NAND flash memory devices and products containing same that infringe one or more of claim 28 of the `932 patent; claims 16 and 17 of the `481 patent; claims 1, 5-7, 13, 18, 19, 21, 23, and 24 of the `696 patent; claims 17 and 19 of the `819 patent; and claims 1, 2, 4, 6, 9, 10, 28, and 29 of the `132 patent, and whether an industry in the United States exists as required by subsection (a)(2) of section 337;

(2) Pursuant to Commission Rule 201.50(b)(1), 19 CFR 210.50(b)(1), the presiding administrative law judge shall take evidence or other information and hear arguments from the parties and other interested persons with respect to the public interest in this investigation, as appropriate, and provide the Commission with findings of fact and a recommended determination on this issue, which shall be limited to the statutory public interest factors, 19 U.S.C. 1337(d)(1), (f)(1), (g)(1), and shall not include the other issues raised by certain of the respondents in their July 25, 2011, letters to the Commission;

(3) For the purpose of the investigation so instituted, the following are hereby named as parties upon which this notice of investigation shall be served:

(a) The complainants are:

Intellectual Ventures Management, LLC, 3150 139th Avenue SE, Building 4, Bellevue, WA 98005.

Invention Investment Fund I, L.P., 3150 139th Avenue SE., Building 4, Bellevue, WA 98005.

Invention Investment Fund II, LLC, 3150 139th Avenue SE, Building 4, Bellevue, WA 98005.

Intellectual Ventures I LLC, 3150 139th Avenue SE, Building 4, Bellevue, WA 98005.

Intellectual Ventures II LLC, 3150 139th Avenue SE., Building 4, Bellevue, WA 98005.

(b) The respondents are the following entities alleged to be in violation of section 337, and are the parties upon which the amended complaint is to be served:

Hynix Semiconductor Inc., San 136-1, Ami-ri, Bubal-eub, Icheon-si, Gyeonggi-do, Korea.

Hynix Semiconductor America, Inc., 3101 N. 1st Street, San Jose, CA 95134.

Elpida Memory, Inc., Sumitomo Seimei Yaesu Bldg. 3F, 2-1 Yaesu 2-chome Chuo-ku, Tokyo 104-0028, Japan.

Elpida Memory (USA) Inc., 1175 Sonora Court, Sunnyvale, CA 94086.

Acer Inc., 8F, 88, Sec. 1, Hsin Tai Wu Rd., Hsichih, Taipei, Hsien 221, Taiwan.

Acer America Corp., 333 W. San Carlos Street, Suite 1500, San Jose, CA 95110.

ADATA Technology Co., Ltd., 2F, No. 258, Lian Cheng Road, New Taipei City, Taiwan.

ADATA Technology (U.S.A.) Co., Ltd., 17101 Gale Avenue, Hacienda Heights, CA 91745.

Asustek Computer Inc., 15, Li Teh Road, Taipei City 11259, Taiwan.

Asus Computer International Inc., 800 Corporate Way, Fremont, CA 94539.

Dell, Inc., One Dell Way, Round Rock, TX 78682.

Hewlett-Packard Company, 3000 Hanover Street, Palo Alto, CA 94304.

Kingston Technology Co., Inc., 17600 Newhope Street, Fountain Valley, CA 92708.

Logitech International S.A., Moulin du Choc, CH-1122, Romanelsur-Morges, Vaud, Switzerland.

Logitech, Inc., 6505 Kaiser Drive, Fremont, CA 94555.

Pantech Co., Ltd., 1-2, DMC Sangam-don Mapo-gu, Seoul, Korea.

Pantech Wireless, Inc., 5607 Glenridge Drive, Suite 500, Atlanta, GA 30342.

Best Buy Co., Inc., 7601 Penn Avenue S, Richfield, MN 55423.

Wal-Mart Stores, Inc., 708 SW, 8th Street, Bentonville, AR 72716.

Nanya Technology Corporation, Hwa Ya Technology Park, 669, Fu Hsing 3rd Rd., Kueishan, Taoyuan 333, Taiwan.

Nanya Technology Corporation, USA, 5104 Old Ironsides Dr., Suite 113, Santa Clara, CA 95054.

(c) The Office of Unfair Import Investigations, U.S. International Trade Commission, 500 E Street, SW., Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

By order of the Commission.
Issued: August 31, 2011.
James R. Holbein,
Secretary to the Commission.

[FR Doc. 2011-22799 Filed 9-6-11; 8:45 am]

BILLING CODE 7020-02-P